DEPARTMENT OF COMMERCE

International Trade Administration

[A-570-863]

Honey from the People's Republic of China: Initiation of New Shipper Antidumping Duty Review

AGENCY: Import Administration, International Trade Administration, Department of Commerce.

EFFECTIVE DATE: September 7, 2006.

SUMMARY: On June 21, 2006, the Department of Commerce (“the Department”) received a request to conduct a new shipper review of the antidumping duty order on honey from the People=s Republic of China (“PRC”) from Shanghai Bloom International Trading Co., Ltd. (“Shanghai Bloom”). We have determined that this request meets the statutory and regulatory requirements for the initiation of a new shipper review.

FOR FURTHER INFORMATION CONTACT: Carrie Blozy or Anya Naschak, AD/CVD Operations, Office 9, Import Administration, International Trade Administration, U.S. Department of Commerce, 14th Street and Constitution Avenue, NW, Washington, DC 20230; telephone: (202) 482-5403 or (202) 482-6375, respectively.

SUPPLEMENTARY INFORMATION:

Background

The Department received a timely request from Shanghai Bloom in accordance with section 751(a)(2)(B) of the Tariff Act of 1930, as amended (“the Act”) and 19 CFR 351.214(c), for a new shipper review of the antidumping duty order on honey from the PRC, which has a December annual anniversary month, and a June semi-annual anniversary month. Shanghai Bloom identified itself as the exporter of honey produced by Linxiang Jindeya Bee-Keeping Co., Ltd. (“Jindeya”). As required by 19 CFR 351.214(b)(2)(ii) and (b)(2)(ii)(A), Shanghai Bloom certified that it did not export honey to the United States during the period of investigation (“POI”), and that it has never been affiliated with any exporter or producer which exported honey to the United States during the POI. Jindeya also certified that it did not export honey to the United States during the POI, and that it has never been affiliated with any exporter or producer which exported honey to the United States during the POI. Furthermore, the two companies have also certified that their activities are not controlled by the government of the PRC, satisfying the requirements of 19 CFR 351.214(b)(2)(iii)(B). Pursuant to 19 CFR 351.214(b)(2)(iv), Shanghai Bloom submitted documentation establishing the date on which the subject merchandise was first entered for consumption in the United States, the volume of that first shipment and any subsequent shipments, and the date of the first sale to an unaffiliated customer in the United States.

The Department conducted Customs database queries and analyzed Customs entry packages to confirm that the shipment of Shanghai Bloom had officially entered the United States via assignment of an entry date in the Customs database by U.S. Customs and Border Protection (“CBP”). In addition, the Department confirmed the existence of Shanghai Bloom and its U.S. customer. We note that although Shanghai Bloom submitted documentation regarding the volume of its shipment, and the date of its first sale to an unaffiliated customer in the United States, CBP entry documents and our Customs database query show that Shanghai Bloom's shipment entered the United States shortly after the anniversary month.

Under 19 CFR 351.214(f)(2)(ii), when the sale of the subject merchandise occurs within the period of review (“POR”), but the entry occurs after the normal POR, the POR may be extended unless it would be likely to prevent the completion of the review within the time limits set by the Department's regulations. The preamble to the Department's regulations states that both the entry and the sale should occur during the POR, and that under “appropriate” circumstances the Department has the flexibility to extend the POR. Antidumping Duties; Countervailing Duties; Final Rule, 62 FR 27296, 27319-27320 (May 19, 1997). In this instance, Shanghai Bloom's shipment entered in the month following the end of the POR. The Department does not find that this delay prevents the completion of the review within the time limits set by the Department's regulations.

On June 22, 2006, we requested from CBP the entry package for Shanghai Bloom, and we received the entry documentation from CBP. However, we found certain discrepancies between the documentation provided by Shanghai Bloom in its request for a new shipper review and the entry package we received from CBP.¹ On July 20, 2006, pursuant to 19 CFR 351.302(b), the Department extended the time limit to initiate this new shipper review until August 31, 2006, in order to provide Shanghai Bloom an opportunity to explain or resolve the inconsistencies in the entry documentation.² On August 7, 2006, we received documentation from Shanghai Bloom, including invoice and shipment documentation, to demonstrate that Jindeya was the producer of the subject merchandise, and a revised Producer Certificate, which contains a Food and Drug Administration (“FDA”) registration number and lists Jindeya as the producer. Shanghai Bloom explained that listing Shanghai Bloom on the Producer Certificate was an inadvertent error.

¹ See Memorandum to the File from Anya Naschak, Senior Case Analyst, through Carrie Blozy, Program Manager, Re: Honey from the People's Republic of China: Entry Packages from U.S. Customs and Border Protection (“CBP”), dated July 20, 2006 (“CBP Memo”).

² See Letter to Shanghai Bloom from Carrie Blozy: Extension of Initiation Date of New Shipper Review of Honey from the People's Republic of China (“PRC”), dated July 20, 2006 (“Initiation Extension Letter”).

On August 9, 2006, the Department issued a letter to Shanghai Bloom, noting that section 801(m) of the Federal Food, Drug and Cosmetic Act (21 U.S.C. § 381(m)), amended by section 307 of the Public Health Security and Bioterrorism Preparedness and Response Act of 2002, requires prior notification and the use of an FDA registration number, which should be assigned to “the owner, operator, or agent in charge of a domestic or foreign facility that manufactures/processes, packs, or holds food for human or animal consumption in the U.S., or an individual authorized by one of them, must register that facility with FDA” (see http://www.cfsan.fda.gov/dms/fsbtac12.html), and requesting that Shanghai Bloom submit a copy of the completed online FDA Registration that generated the FDA Registration number appearing on Shanghai Bloom's Producer Certifications.³ On August 11, 2006, Shanghai Bloom submitted the FDA Registration information, which listed Shanghai Bloom as the foreign facility, and contained the same FDA Registration number appearing on the Producer Certification.

³“See Letter to Shanghai Bloom from Carrie Blozy: Request for Clarification on Shanghai Bloom International Trading Co., Ltd.'s Request for Initiation of a New Shipper Review of Honey from the People's Republic of China (“PRC”), dated August 9, 2006.

On August 17, 2006, the Department requested that Shanghai Bloom explain the discrepancy between the Producer Certification that lists Jindeya as the producer, and the FDA Registration number that was issued to Shanghai Bloom.⁴ On August 21, 2006, Shanghai Bloom submitted a revised Producer Certification, which listed Jindeya's recently acquired FDA Registration number, and explained that, due to a misunderstanding of the requirements of the form, Shanghai Bloom inadvertently put its own name and FDA Registration number on the Producer Certificate, but that Jindeya was the actual producer of the merchandise exported to the United States during the POR.

⁴ See Letter to Shanghai Bloom from Carrie Blozy: Request for Clarification on Shanghai Bloom International Trading Co., Ltd.'s Request for Initiation of a New Shipper Review of Honey from the People's Republic of China (“PRC”), dated August 17, 2006.

Based on the information submitted by Shanghai Bloom on August 7, 2006, August 11, 2006, and August 21, 2006, we find that Shanghai Bloom has sufficiently demonstrated for purposes of initiation that Jindeya was the producer of the honey it exported to the United States. In the course of this new shipper review, we will further examine this issue.

Initiation of Review

In accordance with section 751(a)(2)(B) of the Act, and 19 CFR 351.214(d)(1), and based on information on the record, we are initiating a new shipper review for Shanghai Bloom. See Memorandum to the File through James C. Doyle, New Shipper Initiation Checklist, dated August 25, 2006. The Department will conduct this new shipper review according to the deadlines set forth in section 751(a)(2)(B)(iv) of the Act.

Pursuant to 19 CFR 351.214(g)(1)(i)(B), the POR for a new shipper review, initiated in the month immediately following the semi-annual anniversary month, will be the six-month period immediately preceding the semi-annual anniversary month. As discussed above, under 19 CFR 351.214(f)(2)(ii), when the sale of the subject merchandise occurs within the POR, but the entry occurs after the normal POR, the POR may be extended. Therefore, the POR for the new shipper review of Shanghai Bloom is December 1, 2005, through June 30, 2006.

Pursuant to the Department's regulations, in cases involving non-market economies, the Department requires that a company seeking to establish eligibility for an antidumping duty rate separate from the country-wide rate provide evidence of de jure and de facto absence of government control over the company's export activities. Accordingly, we will issue a questionnaire to Shanghai Bloom, including a separate rates section. The review will proceed if the responses provide sufficient indication that Shanghai Bloom is not subject to either de jure or de facto government control with respect to its exports of honey. However, if Shanghai Bloom does not demonstrate its eligibility for a separate rate, then the company will be deemed not separate from other companies that exported during the POI and the new shipper review will be rescinded as to Shanghai Bloom.

On August 17, 2006, the Pension Protection Act of 2006 (H.R. 4) was signed into law. Section 1632 of H.R. 4 temporarily suspends the authority of the Department to instruct CBP to collect a bond or other security in lieu of a cash deposit in new shipper reviews. Therefore, the posting of a bond under Section 751(a)(2)(B)(iii) of the Act in lieu of a cash deposit is not available in this case. Importers of subject merchandise exported by Shanghai Bloom and manufactured by Jindeya must continue to post a cash deposit of estimated antidumping duties on each entry of subject merchandise at the current PRC-wide rate of 212.39 percent.

Interested parties that need access to proprietary information in this new shipper review should submit applications for disclosure under administrative protective orders in accordance with 19 CFR 351.305 and 351.306.

This initiation notice is issued and published in accordance with section 751(a) of the Act and sections 351.214(d) and 351.221(c)(1)(i) of the Department's regulations.

Dated: August 30, 2006.
Stephen J. Claeys,
Deputy Assistant Secretary for Import Administration.

[FR Doc. E6-14846 Filed 9-6-06; 8:45 am]

BILLING CODE 3510-DS-S